ENVIRONMENTAL PROTECTION AGENCY

[FRL-9915-95-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2409.02; Production Outlook Reports for Un-Registered Renewable Fuel Producers (Renewal); was approved on 07/01/2014; OMB Number 2060-0660; expires on 07/31/2017; Approved with change.

EPA ICR Number 1904.08; The Sun Wise School Program; was approved on 07/01/2014; OMB Number 2060-0439; expires on 07/31/2017; Approved without change.

EPA ICR Number 0616.11; Compliance Requirement for Child Resistant Packaging (Renewal); 40 CFR part 157; was approved on 07/14/2014; OMB Number 2070-0052; expires on 07/31/2017; Approved without change.

EPA ICR Number 2265.02; SmartWay Transport Partnership (Renewal); was approved on 07/18/2014; OMB Number 2060-0663; expires on 07/31/2017; Approved with change.

EPA ICR Number 2169.05; Cooling Water Intake Structures at Phase III Facilities (Renewal); 40 CFR part 125; was approved on 07/18/2014; OMB Number 2040-0268; expires on 07/31/2017; Approved without change.

EPA ICR Number 1360.14; Underground Storage Tanks: Technical and Financial Requirements, and State Program Approval Procedures; 40 CFR parts 280 and 281; was approved on 07/23/2014; OMB Number 2050-0068; expires on 09/30/2014; Approved without change.

Spencer Clark,
Acting Director, Collections Strategies Division.

[FR Doc. 2014-20378 Filed 8-26-14; 8:45 am]

BILLING CODE 6560-50-P